DEPARTMENT OF COMMERCE

International Trade Administration

[A-570-890]

Notice of Amended Preliminary Antidumping Duty Determination of Sales at Less Than Fair Value: Wooden Bedroom Furniture From the People's Republic of China

AGENCY: Import Administration, International Trade Administration, Department of Commerce.

DATES: Effective Date: August 5, 2004.

FOR FURTHER INFORMATION CONTACT: Catherine Bertrand or Robert Bolling, Import Administration, International Trade Administration, U.S. Department of Commerce, 14th Street and Constitution Avenue, NW., Washington, DC 20230; telephone: (202) 482-3207, or 482-3434, respectively.

SUPPLEMENTARY INFORMATION:

Significant Ministerial Error

Pursuant to 19 CFR 351.224(g)(1) and (g)(2), the Department of Commerce (“Department”) is amending the preliminary determination of sales at less than fair value in the antidumping duty investigation of wooden bedroom furniture from the People's Republic of China (“PRC”) to reflect the correction of significant ministerial errors it made in the margin calculations regarding the following mandatory respondents: Rui Feng Woodwork Co., Ltd., Rui Feng Lumber Development Co., Ltd., and Dorbest Limited (collectively “Dorbest Group”); Starcorp Furniture (Shanghai) Co., Ltd., Orin Furniture (Shanghai) Co., Ltd., and Shanghai Starcorp Furniture Co., Ltd. (collectively “Starcorp”). A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination or (2) a difference between a weighted-average dumping margin of zero or de minimis and a weighted-average dumping margin of greater than de minimis or vice versa. See 19 CFR 351.224(g). We are publishing this amendment to the preliminary determination pursuant to 19 CFR 351.224(e). As a result of this amended preliminary determination, we have revised the antidumping rates for the Dorbest Group, Starcorp, and Tech Lane. See discussion below.

Additionally, the Department is amending the preliminary determination of sales at less than fair value in the antidumping duty investigation of wooden bedroom furniture from the PRC to reflect the correction of ministerial errors it made regarding certain Section A respondents that have applied for a separate rate and provided information for the Department to consider for the preliminary determination but were denied a separate rate at the preliminary determination stage. Memorandum to Laurie Parkhill, Office Director, AD/CVD Enforcement, Antidumping Duty Investigation of Wooden Bedroom Furniture From the People's Republic of China: Analysis of Allegations of Ministerial Errors for Section A Respondents dated July 29, 2004.

Ministerial-Error Allegation

On June 24, 2004, the Department published its affirmative preliminary determination in this proceeding. See Notice of Preliminary Determination of Sales at Less Than Fair Value and Postponement of Final Determination: Wooden Bedroom Furniture From the People's Republic of China, 69 FR 35312 (June 24, 2004) (“Preliminary Determination”).

On June 29, 2004, the Department received timely allegations of ministerial errors in the Preliminary Determination from the American Furniture Manufacturers Committee for Legal Trade and its individual members and the Cabinet Makers, Millmen, and Industrial Carpenters Local 721, UBC Southern Council of Industrial Worker's Local Union 2305, United Steel Workers of American Local 193U, Carpenters Industrial Union Local 2093, and Teamsters, Chauffeurs, Warehousemen and Helper Local 991 (collectively “Petitioners”), and the following respondents: Dongguan Lung Dong Furniture Co., Ltd., and Dongguan Dong He Furniture Co., Ltd. (collectively “Dongguan Lung Dong”); the Dorbest Group; Lacquer Craft Manufacturing Company, Ltd. (“Lacquer Craft”); Markor International Furniture (Tianjin) Manufacture Co., Ltd. (“Markor Tianjin”); Shing Mark Enterprise Co., Ltd., Carven Industries Limited (BVI), Carven Industries Limited (HK), Dongguan Zhenxin Furniture Co., Ltd., and Dongguan Yongpeng Furniture Co., Ltd. (collectively “Shing Mark”); and Starcorp. Additionally, Petitioners made a ministerial-error allegation with regard to Tech Lane Wood Mfg. and Kee Jia Wood Mfg. (collectively “Tech Lane”). The Department has reviewed its preliminary calculations and agrees that some of the errors which the parties alleged are ministerial errors within the meaning of 19 CFR 351.224(f).

We agree with certain ministerial errors made with respect to the mandatory respondents. However, not all of the alleged ministerial errors for each mandatory respondent when taken in totality meet the definition of a ministerial error under 19 CFR 351.224. Due to the large number of mandatory respondents and the extraordinary number of alleged ministerial errors in this case we have summarized all comments in company-specific memoranda. For a complete listing of all comments, please see the individual memorandum for each mandatory respondent (i.e., Dongguan Lung Dong, the Dorbest Group, Lacquer Craft, Markor Tianjin, Shing Mark, Starcorp, and Tech Lane), Memorandum to the Laurie Parkhill, Office Director, AD/CVD Enforcement, Antidumping Duty Investigation of Wooden Bedroom Furniture from the People's Republic of China: Analysis of Allegation of Ministerial Errors for (Company) (i.e., Dongguan Lung Dong, the Dorbest Group, Lacquer Craft, Markor Tianjin, Shing Mark, Starcorp, or Tech Lane) dated July 29, 2004.¹

¹ On July 29, 2004, the Department informed Tech Lane that it was not going to conduct verification of its sales and factors of production data, due to the fact Tech Lane did not provide financial statements covering reported subject merchandise and because Tech Lane did not provide the Department with a reconciliation of its sales made during the Period of Investigation (“POI”) to its financial statements. In light of the Department's decision to cancel verification, the Department notes that the amended rate for Tech Lane may change for purposes of the final determination.

On June 29, 2004, the Department received timely allegations of ministerial errors in the Preliminary Determination from twenty-nine section A respondents. See Memorandum to the Laurie Parkhill, Office Director, Antidumping Duty Investigation of Wooden Bedroom Furniture from the People's Republic of China: Analysis of Allegations of Ministerial Errors for Section A Respondents dated July 29, 2004.

Additionally, on July 6, 2004, the Department received additional timely information from certain Section A Respondents. The Department will address these comments in the Final Determination. See Antidumping Duty Investigation of Wooden Bedroom Furniture from the People's Republic of China: Analysis of Consideration of Additional Information for Final Determination, dated July 29, 2004.

Further, the Department received several new Section A filings from companies requesting a separate rate after the preliminary determination. We have determined to return these filings because they were untimely. As the Department stated in the Preliminary Determination, all Section A filings had to be received by March 1, 2004. Therefore, these filings were untimely filed because the Department received them beyond the March 1, 2004, filing deadline.

The collection of bonds or cash deposits and suspension of liquidation will be revised accordingly and parties will be notified of this determination, in accordance with section 733 (d) and (f) of the Tariff Act of 1930, as amended, (the Act).

Amended Preliminary Determination

As a result of our correction of ministerial errors in the Preliminary Determination, we have determined that the following weighted-average dumping margins apply:

Exporter and producer | Original preliminary margin (percent) | Amended preliminary margin (percent)
The Dorbest Group | 19.24 | 11.85
Starcorp | 24.34 | 30.52
Tech Lane | 9.36 | 29.72
Alexandre International Corp | 198.08 | 10.92
Art Heritage International, Ltd | 198.08 | 10.92
Chuan Fa Furniture Factory | 198.08 | 10.92
Clearwise Company Limited | 198.08 | 10.92
COE, Ltd | 198.08 | 10.92
Dongguan Chunsan Wood Products Co., Ltd | 198.08 | 10.92
Dongguan Hero Way Woodwork Co., Ltd | 198.08 | 10.92
Dongguan Da Zhong Woodwork Co., Ltd | 198.08 | 10.92
Dongguan Sunrise Furniture Co | 198.08 | 10.92
Dream Rooms Furniture (Shanghai) Co., Ltd | 198.08 | 10.92
Foshan Guanqiu Furniture Co., Ltd | 198.08 | 10.92
Gaomi Yatai Wooden Ware Co., Ltd | 198.08 | 10.92
Green River Wood (Dongguan) Ltd | 198.08 | 10.92
Kuan Lin Furniture (Dong Guan) Co., Ltd | 198.08 | 10.92
Longrange Furniture Co., Ltd | 198.08 | 10.92
Passwall Corporation | 198.08 | 10.92
Prime Wood International Co., Ltd et al | 198.08 | 10.92
Shenshen Xiande Furniture Factory | 198.08 | 10.92
Tianjin Master Home Furniture | 198.08 | 10.92
Yida Co., Ltd | 198.08 | 10.92

The PRC-wide rate has not been amended.

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(I)(1) of the Act and 19 CFR 351.224(e).

Dated: July 29, 2004.
Jeffrey May,
Acting Assistant Secretary for Import Administration.

[FR Doc. 04-17937 Filed 8-4-04; 8:45 am]

BILLING CODE 3510-DS-P